DEPARTMENT OF AGRICULTURE

Forest Service

Madera County Resource Advisory Committee

AGENCY: Forest Service, USDA.

ACTION: Notice of Resource Advisory Committee meeting.

SUMMARY: Pursuant to the authorities in the Federal Advisory Committee Act of 1972 (Pub. L. 92-463) and under the secure Rural Schools and Community Self-Determination Act of 2000 (Pub. L. 106-393) the Sierra National Forest's Resource Council Advisory Committee for Madera County will meet on Monday, October 20, 2003. The Madera Resource Advisory Committee will meet at the Yosemite Bank, Oakhurst, CA. The purpose of the meeting is: review new RAC proposals, review progress of FY 2002 accounting, review new Forest Service Region 5 RAC website, review Madera County RAC Mission Sub-committee Report, clarify voting procedures, and, reconsideration of vote to use RAC funds to attend Regional RAC Meeting November 13, 2003.

DATES: The Madera Resource Advisory Committee meeting will be held Monday, October 20, 2003. The meeting will be held from 7 p.m. to 9 p.m.

ADDRESSES: The Madera County RAC meeting will be held at the Yosemite Bank, 40061 Highway 40, Oakhurst, CA 93644.

FOR FURTHER INFORMATION CONTACT: Dave Martin, U.S.D.A., Sierra National Forest, 57003 Road 225, North Fork, CA, 93643 (559) 877-2218 ext. 3100; e-mail: dmartin05@fs.fed.us.

SUPPLEMENTARY INFORMATION: Agenda items to be covered include: (1) Review new RAC proposals, (2) review progress of FY 2002 accounting, (3) review new Forest Service Region 5 RAC website, (4) review Madera County RAC Mission Sub-committee Report, (5) clarify voting procedures, and, (6) reconsideration of vote to use RAC funds to attend Regional RAC Meeting November 13, 2003. Public input opportunity will be provided and individuals will have the opportunity to address the Committee at that time.

Dated: September 22, 2003.
Michael A. Lefevre,
Acting District Ranger.

[FR Doc. 03-24483 Filed 9-26-03; 8:45 am]

BILLING CODE 3410-11-M